POSTAL SERVICE

Product Change—USPS Marketing Mail Negotiated Service Agreement

AGENCY: Postal Service™.

ACTION: Notice.

SUMMARY: The Postal Service gives notice of filing a request with the Postal Regulatory Commission to add a USPS Marketing Mail negotiated service agreement to the market-dominant product list within the Mail Classification Schedule.

DATES: Date of required notice: August 17, 2023

FOR FURTHER INFORMATION CONTACT: Elizabeth A. Reed, 202-268-3179.

SUPPLEMENTARY INFORMATION: The United States Postal Service® hereby gives notice that on August 11, 2023, pursuant to 39 U.S.C. 3642 and 3622(c)(10), it filed with the Postal Regulatory Commission a USPS Notice of Filing of Contract and Supporting Data and Request to Add Publisher's Clearing House Negotiated Service Agreement to the Market-Dominant Product List, with Portions Filed Under Seal. Documents are available at www.prc.gov, Docket Nos. MC2023-222, R2023-4.

Sean C. Robinson,
Attorney, Corporate and Postal Business Law.

[FR Doc. 2023-17662 Filed 8-16-23; 8:45 am]

BILLING CODE 7710-12-P